DEPARTMENT OF EDUCATION

Office of Special Education and Rehabilitative Services; Overview Information, Training and Information for Parents of Children With Disabilities; Notice Inviting Applications for New Awards for Fiscal Year (FY) 2008

Catalog of Federal Domestic Assistance (CFDA) Number: 84.328C and 84.328R.

Note: This notice invites applications for two separate competitions. For key dates, contact person information, and funding information regarding each competition, see the chart in the Award Information section of this notice.

Dates:

Applications Available: See chart.

Deadline for Transmittal of Applications: See chart.

Deadline for Intergovernmental Review: See chart.

Full Text of Announcement

I. Funding Opportunity Description

Purpose of Program: The purpose of this program is to ensure that parents of children with disabilities receive training and information to help improve results for their children.

Priorities: In accordance with 34 CFR 75.105(b)(2)(iv) and (v), these priorities are from allowable activities specified in the statute, or otherwise authorized in the statute (see sections 672, 673 and 681(d) of the Individuals with Disabilities Education Act (IDEA)). Each of the absolute priorities announced in this notice corresponds to a separate competition as follows:

Absolute priority | Competition CFDA No.
Community Parent Resource Centers | 84.328C
Technical Assistance for the Parent Centers | 84.328R

Absolute Priorities: For FY 2008 and any subsequent year in which we make awards based on the list of unfunded applications from these competitions, these priorities are absolute priorities. Under 34 CFR 75.105(c)(3), for each competition, we consider only applications that meet the absolute priority for that competition.

These priorities are:

Absolute Priority 1—Community Parent Resource Centers (84.328C).

Background: This priority supports community parent resource centers (CPRCs) in targeted communities that will provide underserved parents of children with disabilities, including low-income parents, parents of limited English proficient children, and parents with disabilities in that community, with the training and information they need to enable them to participate cooperatively and effectively in helping their children with disabilities to—

(a) Meet developmental and functional goals, and challenging academic achievement goals that have been established for all children; and

(b) Be prepared to lead productive, independent adult lives, to the maximum extent possible.

Priority: To be considered for funding under the Community Parent Resource Centers (CPRC) absolute priority, applicants must meet the application requirements contained in the priority. All projects funded under the absolute priority also must meet the programmatic and administrative requirements specified in the priority.

Application Requirements. An applicant must include in its application—

(a) A plan to implement the activities described in the Project Activities section of this priority; and

(b) A budget for attendance at a three-day National Technical Assistance for Parent Center Conference in Washington, DC during each year of the project period.

Project Activities. To meet the requirements of this priority, the CPRC, at a minimum, must:

(a) Provide training and information that meets the training and information needs of parents of children with disabilities within the proposed targeted community to be served by the CPRC, particularly underserved parents and parents of children who may be inappropriately identified as having disabilities when they do not have them.

Note: For purposes of this priority, “community to be served” refers to a geographically defined, local community whose members experience significant isolation from available sources of information and support as a result of cultural, economic, linguistic, or other circumstances deemed appropriate by the Secretary.

(b) Carry out the following activities required of parent training and information centers:

(1) Serve the parents of infants, toddlers, and children, from ages birth through 26, with the full range of disabilities described in section 602(3) of IDEA.

(2) Ensure that the training and information provided meets the needs of low-income parents and parents of limited English proficient children.

(3) Assist parents to—

(i) Better understand the nature of their children's disabilities and their educational, developmental, and transitional needs;

(ii) Communicate effectively and work collaboratively with personnel responsible for providing special education, early intervention services, transition services, and related services;

(iii) Participate in decision making processes, including those regarding participation in State and local assessments, and the development of individualized education programs under Part B of IDEA and individualized family service plans under Part C of IDEA;

(iv) Obtain appropriate information about the range, type, and quality of—

(A) Options, programs, services, technologies, practices, and interventions that are based on scientifically based research, to the extent practicable; and

(B) Resources available to assist children with disabilities and their families in school and at home, including information available through the Office of Special Education Programs' (OSEP) technical assistance centers and communities of practice (http://www.tacommunities.org);

(v) Understand the provisions of IDEA for the education of, and the provision of early intervention services to, children with disabilities;

(vi) Participate in activities at the school level that benefit their children; and

(vii) Participate in school reform activities.

(4) In States where the State elects to contract with the CPRCs, contract with the State educational agencies (SEAs) to provide, consistent with paragraphs (B) and (D) of section 615(e)(2) of IDEA, individuals to meet with parents in order to explain the mediation process.

(5) Assist parents in resolving disputes in the most expeditious and effective way possible, including encouraging the use, and explaining the benefits, of alternative methods of dispute resolution, such as the mediation process described in section 615(e) of IDEA.

(6) Assist parents and students with disabilities to understand their rights and responsibilities under IDEA, including those under section 615(m) of IDEA upon the student's reaching the age of majority (as appropriate under State law).

(7) Assist parents to understand the availability of, and how to effectively use, procedural safeguards under IDEA.

(8) Assist parents in understanding, preparing for, and participating in, the resolution session as described in section 615(f)(1)(B) of IDEA.

(c) Establish cooperative partnerships with any Parent Training and Information Centers (PTIs) and any other CPRCs funded in the State under sections 671 and 672 of IDEA.

(d) Be designed to meet the specific needs of families who experience significant isolation from available sources of information and support.

(e) Be familiar with the provision of special education, related services, and early intervention services in the CPRC's community to be served to help ensure that children with disabilities are receiving appropriate services.

(f) Annually report to the Department on—

(1) The number and demographics of parents to whom it provided information and training in the most recently concluded fiscal year, including additional information regarding their unique needs and levels of service provided to them; and

(2) The effectiveness of strategies used to reach and serve parents, including underserved parents of children with disabilities, by providing evidence of how those parents were served effectively.

(g) Respond to requests from the OSEP-funded National Technical Assistance Center (NTAC) and Regional Parent Technical Assistance Centers (PTACs), and use the technical assistance services of the NTAC and PTACs in order to serve the families of infants, toddlers, and children with disabilities as efficiently as possible. PTACS are charged with assisting parent centers with administrative and programmatic issues.

(h) If the CPRC maintains a Web site, include relevant information and documents in a format that meets a government or industry-recognized standard for accessibility.

(i) In collaboration with OSEP and the NTAC, participate in an annual collection of program data for the PTIs and CPRCs funded under sections 671 and 672 of IDEA, respectively.

Competitive Preference Priorities: Within Absolute Priority 1, we give competitive preference to applications that address the following two priorities. Under 34 CFR 75.105(c)(2)(i), we will award up to 10 additional points to an application that meets these priorities.

Note: The 10 points an applicant can earn under these competitive preference priorities are in addition to those points awarded under the selection criteria for this competition (see Selection Criteria in section V in this notice). That is, an applicant meeting the competitive preference priorities could earn a maximum total of 110 points.

These priorities are:

Competitive Preference Priority 1—Empowerment Zones, Enterprise Communities, or Renewal Communities.

We will award five points to an application that proposes to provide services to one or more Empowerment Zones, Enterprise Communities, or Renewal Communities that are designated within the areas served by the center. (A list of areas that have been selected as Empowerment Zones, Enterprise Communities, or Renewal Communities can be found at http://egis.hud.gov/egis/cpd/rcezec/ezec_open.htm).

To meet this priority, an applicant must indicate that it will—

(1) Either (i) design a program that includes special activities focused on the unique needs of one or more Empowerment Zones, Enterprise Communities, or Renewal Communities; or (ii) devote a substantial portion of program resources to providing services within, or meeting the needs of residents of, these zones and communities; and

(2) As appropriate, contribute to the strategic plan of the Empowerment Zones, Enterprise Communities, or Renewal Communities and become an integral component of the Empowerment Zone, Enterprise Community, or Renewal Community activities.

Competitive Preference Priority 2—Novice Applicants.

We will award an additional five points to an application from a novice applicant. This priority is from 34 CFR 75.225. The term “novice applicant” means any applicant for a grant from the U.S. Department of Education that—

(1) Has never received a grant or subgrant under the program from which it seeks funding;

(2) Has never been a member of a group application, submitted in accordance with 34 CFR 75.127 through 75.129, that received a grant under the program from which it seeks funding; and

(3) Has not had an active discretionary grant from the Federal Government in the five years before the deadline date for applications under this program (Training and Information for Parents of Children with Disabilities—Community Parent Resource Centers). For the purposes of this requirement, a grant is active until the end of the grant's project or funding period, including any extensions of those periods that extend the grantee's authority to obligate funds.

In the case of a group application submitted in accordance with 34 CFR 75.127 through 75.129, all group members must meet the requirements described in this priority to qualify as a novice applicant.

Absolute Priority 2—Technical Assistance for the Parent Centers (84.328R).

Background: This priority, authorized under section 673 of the Individuals with Disabilities Education Act (IDEA), supports the establishment and operation of seven technical assistance centers—one national in scope and six regional in scope. These centers will provide technical assistance (TA) to support the development and coordination of parent training and information programs carried out by Parent Training and Information Centers (PTIs) funded under section 671 of IDEA and the Community Parent Resource Centers (CPRCs) funded under section 672 of IDEA.

This priority builds on the investments made by the Office of Special Education Programs (OSEP) in the area of TA by supporting a unified and coordinated TA system for the parent programs carried out by PTIs and CPRCs by strengthening connections between the TA system for parent centers and the Department's Technical Assistance and Dissemination Network (TA&D Network), which is comprised of national and regional projects funded by the Department.

Due to the increase in information available regarding services for children with disabilities and the complexity of that information, TA centers are needed to support PTIs and CPRCs to build their content knowledge and expertise in special and regular education laws, policies, and evidence-based practices. TA centers also are needed to support PTIs and CPRCs as they increase their capacity to help families of children with disabilities, ages birth through 26, understand special and regular education laws, policies, and evidence-based practices and use that knowledge to best advocate for appropriate services and supports for their children.

The activities of the TA centers funded under this priority will help strengthen partnerships among the PTIs, CPRCs, and their respective State educational agencies (SEAs), local educational agencies (LEAs), and lead agencies. These partnerships facilitate shared decision-making between agencies and parent programs, resulting in improved outcomes for children and families served under IDEA. For further information on OSEP's support of TA to the PTIs and CPRCs go to http://www.taalliance.org.

Priority: This priority will fund seven centers, through cooperative agreements, in two focus areas. Under Focus Area 1, the Department intends to fund one National Technical Assistance Center for Parent Centers (National Parent TAC); and under Focus Area 2, the Department intends to support six Regional Technical Assistance Centers for Parent Centers (Regional Parent TACs). The six Regional Parent TACs will be awarded to represent the following six geographic regions:

Region 1 Parent TAC: CT, ME, MA, NH, NJ, NY, RI, VT.

Region 2 Parent TAC: DE, KY, MD, NC, SC, TN, VA, DC, WV.

Region 3 Parent TAC: AL, AR, FL, GA, LA, MS, OK, Puerto Rico, TX, U.S. Virgin Islands.

Region 4 Parent TAC: IL, IN, IA, MI, MN, MO, OH, PA, WI.

Region 5 Parent TAC: AZ, CO, KS, MT, NE, ND, NM, SD, UT, WY.

Region 6 Parent TAC: AK, CA, HI, ID, NV, OR, WA, the outlying areas of the Pacific Basin, and the Freely Associated States.

To be considered for funding under the Technical Assistance for the Parent Centers absolute priority, applicants must meet the application requirements contained in the priority. All projects funded under the absolute priority also must meet the programmatic and administrative requirements specified in the priority.

Application Requirements for Focus Areas 1 and 2. An applicant must include in its application—

(a) A logic model that depicts, at a minimum, the goals, activities, outputs, and outcomes of the proposed project. A logic model communicates how a project will achieve its outcomes and provides a framework for both the formative and summative evaluations of the project;

Note: For more information on logic models, the following Web site lists multiple online resources: http://www.cdc.gov/eval/resources.htm.

(b) A plan to implement the activities described in the Project Activities sections of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for attendance at the following:

(1) A one and one half day kick-off meeting to be held in Washington, DC within four weeks after receipt of the award, and an annual planning meeting held in Washington, DC with the OSEP Project Officer during each subsequent year of the project period.

(2) A three-day Project Directors' Conference in Washington, DC during each year of the project period.

(3) A four-day Technical Assistance and Dissemination Conference in Washington, DC during each year of the project period.

(4) A three-day National Technical Assistance for Parent Center Conference in Washington, DC during each year of the project; and

(e) A line item in the proposed budget for an annual set-aside of five percent of the grant amount to support emerging needs that are consistent with the proposed project's activities, as those needs are identified in consultation with OSEP.

Note: With approval from the OSEP Project Officer, the center must reallocate any remaining funds from this annual set-aside no later than the end of the third quarter of each budget period.

Project Activities for Focus Areas 1 and 2. To meet the requirements of this priority, each center, at a minimum, must conduct the following activities:

(a) Review documents and publications from centers in the OSEP-funded TA&D Network, as requested by OSEP, to ensure that the documents and publications are relevant to and understandable by families.

(b) Maintain communication and collaboration between the National Parent TAC and the Regional Parent TACs, as requested by OSEP, to ensure that products and services are relevant to and accessible to families. This collaboration could include the shared development of products, the coordination of technical assistance services, and the planning and carrying out of technical assistance meetings and events.

(c) Participate in, organize, or facilitate, as appropriate, OSEP communities of practice (http://www.tacommunities.org/) that are aligned with the center's objectives as a way to support discussions and collaboration among key stakeholders.

(d) Prior to developing any new product, whether paper or electronic, submit to the OSEP Project Officer and the Proposed Product Advisory Board at OSEP's Technical Assistance Coordination Center (TACC), which OSEP intends to fund in FY 2008, for approval, a proposal describing the content and purpose of the product.

(e) Coordinate with the National Dissemination Center for Individuals with Disabilities, which OSEP intends to fund in FY 2008, to develop an efficient and high-quality dissemination strategy that reaches broad audiences. The Center must report to the OSEP Project Officer the outcomes of these coordination efforts.

(f) Contribute, on an ongoing basis, updated information on the Center's services to OSEP's Technical Assistance and Dissemination Matrix (http://matrix.rrfcnetwork.org), which provides current information on Department-funded TA services to a range of stakeholders.

(g) Maintain a Web site that meets government or industry-recognized standards for accessibility and that links to the Web site operated by the TACC.

(h) Maintain ongoing communication with the OSEP Project Officer through monthly phone conversations and e-mail communication.

Project Activities for Focus Area 1. To meet the requirements of Focus Area 1 under this priority, the National Parent TAC, at a minimum, must conduct the following activities:

(a) Contribute to improved outcomes for PTIs and CPRCs by supporting collaborative activities among and between the six Regional Parent TACs and the National Parent TAC.

(b) Develop or adapt and disseminate, in collaboration with the Regional Parent TACs, resources and training materials that incorporate evidence-based practices for the PTIs and CPRCs to use in their training and information activities. When developing or adapting and disseminating these materials, the National Parent TAC must solicit feedback from experts in the field. The resource and training materials must address, at a minimum, the following topics identified in section 673 of IDEA:

(1) Promoting effective strategies for the use of technology, including assistive technology devices and assistive technology services.

(2) Developing strategies to reach underserved populations, including parents of low-income and limited English proficient children with disabilities.

(3) Promoting strategies to include children with disabilities in general education programs.

(4) Facilitating effective transitions for children with disabilities from early intervention services to preschool, preschool to elementary school, elementary school to secondary school, and secondary school to postsecondary environments.

(5) Promoting alternative methods of dispute resolution, including mediation.

(6) Disseminating scientifically based research and information, particularly in the areas of assessment, literacy, behavior, instructional strategies, early intervention, and inclusive practices.

(c) Establish and maintain a cadre of experts available to the National Parent TAC during product development to provide content knowledge and information on evidence-based practices to support infants, toddlers, and children with disabilities and their families.

(d) Conduct, in collaboration with the six Regional Parent TACs, an assessment of the PTIs and the CPRCs' training and information needs on such topics as parental involvement, evidence-based practices, and improving outcomes for children with disabilities.

(e) Develop or adapt, in collaboration with the six Regional Parent TACs, training materials for the PTIs and CPRCs on: Best practices in non-profit management; developing parent leadership; developing and sustaining outreach strategies to reach the broad range of families the PTIs and CPRCs serve; participating in systems change; working with SEAs, LEAs, and local agencies; and understanding State information sources such as State Performance Plans (SPPs) and Annual Performance Reports (APRs).

(f) Maximize the technological capacity of the PTIs and CPRCs by identifying and providing access to appropriate training.

(g) Provide direct TA to the OSEP-funded National Parent Centers Serving Native American and Military Families.

(h) Develop an evaluation instrument, in collaboration with the six Regional Parent TACs and the OSEP Project Officer and to be approved by the OSEP Project Officer, that enables the PTIs and CPRCs to measure their program effectiveness and the outcomes for the families of children with disabilities that they serve.

(i) Establish a mechanism for annually collecting and reporting data on parent program outcomes that are gathered by the evaluation instrument developed in paragraph (h) of this priority and from other relevant data sources. The mechanism for collecting and reporting data referenced in this paragraph will be identified collaboratively with the OSEP Project Officer and the six Regional Parent TACs.

(j) Develop, maintain, and make available on its Web site, a database of all OSEP-funded parent program centers, which must include PTIs, including the National Parent Centers Serving Native American and Military Families, CPRCs, and the National and Regional Parent TACs, in order to connect families to parent programs that serve them.

(k) Plan and conduct an annual National Technical Assistance for Parent Center Conference for OSEP-funded parent program centers and other stakeholders in collaboration with the OSEP Project Officer and with input from the six Regional Parent TACs, PTIs and CPRCs, as well as a conference advisory panel approved by the OSEP Project Officer to be convened by the National Parent TAC.

(l) Plan and conduct, as designated by the OSEP Project Officer and with input from the six Regional Parent TACs, a New Directors' Conference in the fall of each year of the project period for all new directors of PTIs and CPRCs as well as other project staff, as appropriate.

(m) Conduct a summative evaluation of the National Parent TAC in collaboration with the Center to Improve Project Performance (CIPP) as described in the following paragraphs. This summative evaluation must examine the outcomes or impact of the National Parent TAC's activities in order to assess the effectiveness of those activities.

Note: In FY 2008, OSEP intends to fund CIPP. The major tasks of CIPP would be to guide, coordinate, and oversee the summative evaluations conducted by selected Technical Assistance, Personnel Development, Parent Training and Information Center, and Technology projects that individually receive $500,000 or more funding from OSEP annually. The efforts of CIPP are expected to enhance individual project evaluations by providing expert and unbiased assistance in designing evaluations, conducting analyses, and interpreting data.

To fulfill the requirements of the summative evaluation to be conducted under the guidance of CIPP, the National Parent TAC must—

(1) Hire or designate, with the approval of the OSEP Project Officer, a project liaison staff person with sufficient dedicated time and knowledge of the National Parent TAC to work with CIPP on the following tasks: (i) planning the National Parent TAC's summative evaluation (e.g., selecting evaluation questions, developing a timeline for the evaluation, locating sources of relevant data, and refining the logic model used for the evaluation), (ii) developing the summative evaluation design and instrumentation (e.g., determining quantitative or qualitative data collection strategies, selecting respondent samples, and pilot testing instruments), (iii) coordinating the evaluation timeline with the implementation of the National Parent TAC's activities, (iv) collecting summative data, and (v) writing reports of summative evaluation findings;

(2) Cooperate with CIPP staff in order to accomplish the tasks described in paragraph (1) of this section; and

(3) Dedicate $20,000 of the annual budget request for this project to cover the costs of carrying out the tasks described in paragraphs (1) and (2) of this section as well as implementing the National Parent TAC's proposed formative evaluation.

Fourth and Fifth Years of the Project: In deciding whether to continue funding the National Parent TAC for the fourth and fifth years, the Secretary will consider the requirements of 34 CFR 75.253(a), and in addition—

(a) The recommendation of a review team consisting of experts selected by the Secretary. This review will be conducted during a one-day intensive meeting in Washington, DC that will be held during the last half of the second year of the project period. The National Parent TAC must budget for travel expenses associated with this one-day intensive review;

(b) The timeliness and effectiveness with which all requirements of the negotiated cooperative agreement have been or are being met by the National Parent TAC; and

(c) The quality, relevance, and usefulness of the National Parent TAC's activities and products and the degree to which the National Parent TAC's activities and products have contributed to changed practice and improved child and family outcomes.

Project Activities for Focus Area 2. To meet the requirements of Focus Area 2 under this priority, each Regional Parent TAC must conduct the following activities:

(a) Conduct, in collaboration with the National Parent TAC, an assessment of the training and information needs of the PTIs and CPRCs located in its region.

(b) Provide direct TA to PTIs and CPRCs in its region on relevant topics including, but not limited to:

(1) Promoting effective strategies for the use of technology, including assistive technology devices and assistive technology services.

(2) Developing strategies to reach underserved populations, including parents of low-income and limited English proficient children with disabilities.

(3) Promoting strategies to include children with disabilities in regular education programs.

(4) Facilitating effective transitions for children with disabilities from early intervention services to preschool; preschool to elementary school; elementary school to secondary school; and secondary school to postsecondary environments.

(5) Promoting alternative methods of dispute resolution, including mediation.

(6) Promoting the use of evidence-based practices.

(c) Make two TA site visits to each PTI and CPRC in its region during the project period and additional site visits as determined jointly by the Regional Parent TAC and the region's PTIs and CPRCs. At these site visits, Regional Parent TACs could provide, for example, trainings on State and local systems change activities, working with SEAs, LEAs, and local agencies, and understanding State information sources such as SPPs and APRs, financial management, measuring program effectiveness and outcomes, strategic planning, capacity building, leadership development, continuous development and assessment of the effectiveness of outreach strategies, effective PTI and CPRC service-delivery models, and effective board management.

(d) Respond to requests from the OSEP Project Officer and the National Parent TAC for feedback on materials developed by the National Parent TAC.

(e) Participate in the National Parent TAC's conference advisory panel for the purpose of planning the annual National Technical Assistance for Parent Center Conference in each year of the project period.

(f) Conduct one regional conference each year for PTI and CPRC directors and staff in the region.

(g) Serve as members of the National Parent TAC cadre of experts to provide content knowledge and information on evidence-based practices that support infants, toddlers, and children with disabilities and their families during product development.

Competitive Preference Priorities: Within Absolute Priority 2, we give competitive preference to applications that address the following priorities. Under 34 CFR 75.105(c)(2)(i), we will award additional points to an application that meets these priorities.

Note: The points an applicant can earn under these competitive preference priorities are in addition to those points awarded under the selection criteria for this competition (see Selection Criteria in section V in this notice).

Applications under Focus Area 1 can be awarded a total of 10 points in addition to those awarded under the selection criteria for this program for a maximum total of 110 points.

Applications under Focus Area 2 can be awarded 10 points in addition to those awarded under the selection criteria for this program if they meet the requirements of Competitive Preference Priority 1 or Competitive Preference Priority 2 for a maximum total of 110 points, and 20 points if they meet both Competitive Preference Priorities for a maximum total of 120 points.

These priorities are:

Competitive Preference Priority 1—Parent Organizations, as Defined in Section 671(a)(2) of IDEA.

We will award 10 points under Focus Areas 1 and 2 of the absolute priority to any applicant that is a parent organization, as defined in section 671(a)(2) of IDEA. This section of IDEA defines the term “parent organization” as a private non-profit organization (other than an institution of higher education) that—

(1) Has a board of directors—

(i) The majority of whom are parents of children with disabilities ages birth through 26;

(ii) That includes—

(A) Individuals working in the fields of special education, related services, and early intervention; and

(B) Individuals with disabilities; and

(C) The parent and professional members of which are broadly representative of the population to be served, including low-income parents and parents of limited English proficient children; and

(2) Has as its mission serving families of children with disabilities who—

(i) Are ages birth through 26; and

(ii) Have the full range of disabilities described in section 602(3) of IDEA.

Competitive Preference Priority 2—Applicants under Focus Area 2 that are Located in the Region They Propose to Serve.

We will award 10 points to an applicant applying under Focus Area 2 of the absolute priority if that applicant is located in the region it proposes to serve.

Waiver of Proposed Rulemaking: Under the Administrative Procedure Act (APA) (5 U.S.C. 553) the Department generally offers interested parties the opportunity to comment on proposed priorities and requirements. Section 681(d) of IDEA, however, makes the public comment requirements of the APA inapplicable to the priorities in this notice.

Program Authority: 20 U.S.C. 1472, 1473 and 1481.

Applicable Regulations: The Education Department General Administrative Regulations in 34 CFR parts 74, 75, 77, 79, 81, 82, 84, 85, 97, 98, and 99.

Note: The regulations in 34 CFR part 79 apply to all applicants except federally recognized Indian tribes.

II. Award Information

Type of Award: Discretionary grants for competition CFDA 84.328C and cooperative agreements for competition CFDA 84.328R.

Estimated Available Funds: $3,400,000. Please refer to the “Estimated Average Size of Awards” column of the chart in this section for the estimated dollar amounts for individual competitions.

Contingent upon the availability of funds and the quality of applications for the competitions announced in this notice, we may make additional awards in FY 2009 from the lists of unfunded applicants from individual competitions.

Estimated Average Size of Awards: See chart.

Maximum Award: See chart.

Estimated Number of Awards: See chart.

Project Period: See chart.

Individuals With Disabilities Education Act Training and Information for Parents of Children With Disabilities Program Application Notice for Fiscal Year 2008
CFDA No. and name | Applications available | Deadline for transmittal of applications | Deadline for intergovernmental review | Estimated available funds | Estimated average size of awards | Maximum award (per year)* | Estimated number of awards | Project period | Page limit | Contact person
84.328C Community Parent Resource Centers | 03/19/08 | 04/18/08 | 06/17/08 | $1,000,000 | $100,000 | $100,000* | 10 | Up to 36 mos | 50 | Carmen Sanchez, (202) 245-6595, Rm 4055.
84.328R Technical Assistance for the Parent Centers:
Focus Area 1: National Parent TAC | 03/19/08 | 04/18/08 | 06/17/08 | $765,000 | $765,000 | $765,000* | 1 | Up to 60 mos | 70 | Lisa Groove, (202) 245-7357, Rm 4056.
Focus Area 2: Regional Parent TAC | 03/19/08 | 04/18/08 | 06/17/08 | $1,635,000 | $272,500 | $272,500* | 6 | Up to 60 mos |  |
*We will reject any application that proposes a budget exceeding the maximum award for a single budget period of 12 months. The Assistant Secretary for Special Education and Rehabilitative Services may change the maximum amount through a notice published in the Federal Register.
Note: The Department is not bound by any estimates in this notice.

III. Eligibility Information

1. Eligible Applicants:

Absolute priority | Eligible applicants
Community Parent Resource Centers (84.328C) | Local parent organizations.
Technical Assistance for the Parent Centers (84.328R) | Nonprofit private organizations.

Note: Under section 672(a)(2) of IDEA, a “local parent organization” is a parent organization (as that term is defined in section 671(a)(2) of IDEA) that—

(a) Has a board of directors, the majority of whom are parents of children with disabilities ages birth through 26 from the community to be served.

(b) Has as its mission serving parents of children with disabilities from that community who (1) are ages birth through 26, and (2) have the full ranges of disabilities as defined in section 602(3) of IDEA.

Section 671(a)(2) of IDEA defines a “parent organization” as a private nonprofit organization (other than an institution of higher education) that—

(a) Has a board of directors—

(1) The majority of whom are parents of children with disabilities ages birth through 26;

(2) That includes—

(i) Individuals working in the fields of special education, related services, and early intervention; and

(ii) Individuals with disabilities; and

(iii) The parent and professional members of which are broadly representative of the population to be served including low-income parents and parents of limited English proficient children; and

(b) Has as its mission serving families of children with disabilities who are ages birth through 26, and have the full range of disabilities described in section 602(3) of IDEA.

2. Cost Sharing or Matching: This program does not require cost sharing or matching.

3. Other: General Requirements—(a) The projects funded under this program must make positive efforts to employ and advance in employment qualified individuals with disabilities (see section 606 of IDEA).

(b) Applicants and grant recipients funded under this program must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: www.ed.gov/pubs/edpubs.html or at its e-mail address: edpubs@inet.ed.gov.

If you request an application package from ED Pubs, be sure to identify the competition to which you want to apply, as follows: CFDA number 84.328C or 84.328R.

Individuals with disabilities can obtain a copy of the application package in an alternative format (e.g., Braille, large print, audiotape, or computer diskette) by contacting the person or team listed under Alternative Format in section VIII of this notice.

2. Content and Form of Application Submission: Requirements concerning the content of an application, together with the forms you must submit, are in the application package for the competitions announced in this notice.

Page Limit: The application narrative (Part III of the application) is where you, the applicant, address the selection criteria that reviewers use to evaluate your application. For each competition, you must limit Part III to the equivalent of no more than the number of pages listed under “Page Limit” for that competition in the chart under Award Information, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; the one-page abstract, the resumes, the bibliography, the references, or the letters of support. However, the page limit does apply to all of the application narrative (Part III).

We will reject your application if you exceed the page limit; or if you use other standards and exceed the equivalent of the page limit.

3. Submission Dates and Times:

Applications Available: See chart.

Deadline for Transmittal of Applications: See chart.

Applications for grants under this program may be submitted electronically using the Grants.gov Apply site (Grants.gov), or in paper format by mail or hand delivery. For information (including dates and times) about how to submit your application electronically, or in paper format by mail or hand delivery, please refer to section IV.6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice. Deadline for Intergovernmental Review: See chart.

4. Intergovernmental Review: This program is subject to Executive Order 12372 and the regulations in 34 CFR part 79. Information about Intergovernmental Review of Federal Programs under Executive Order 12372 is in the application package for each of the competitions announced in this notice.

5. Funding Restrictions: We reference regulations outlining funding restrictions in the Applicable Regulations section in this notice.

6. Other Submission Requirements: Applications for grants under this program may be submitted electronically or in paper format by mail or hand delivery.

a. Electronic Submission of Applications.

To comply with the President's Management Agenda, we are participating as a partner in the Governmentwide Grants.gov Apply site. The Training and Information for Parents of Children with Disabilities competitions, CFDA Numbers 84.328C and 84.328R, announced in this notice are included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Training and Information for Parents of Children with Disabilities program competitions—CFDA Numbers 84.328C and 84.328R at http://www.Grants.gov. You must search for the downloadable application package for this program by the CFDA number. Do not include the CFDA number's alpha suffix in your search (e.g., search for 84.328, not 84.328C).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for the competition to which you are applying to ensure that you submit your application in a timely manner to the Grants.gov system. You also can find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.328C or 84.328R), 400 Maryland Avenue, SW., Washington, DC 20202-4260; or

By mail through a commercial carrier: U.S. Department of Education, Application Control Center, Stop 4260, Attention: (CFDA Number 84.328C or 84.328R), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address:

U.S. Department of Education, Application Control Center, Attention: (CFDA Number 84.328C or 84.328R), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package for each competition announced in this notice.

2. Peer Review: In the past, the Department has had difficulty finding peer reviewers for certain competitions, because so many individuals who are eligible to serve as peer reviewers have conflicts of interest. The Standing Panel requirements under IDEA also have placed additional constraints on the availability of reviewers. Therefore, the Department has determined that, for some discretionary grant competitions, applications may be separated into two or more groups and ranked and selected for funding within specific group. This procedure will make it easier for the Department to find peer reviewers, by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary also may require more frequent performance reports under 34 CFR 75.720(c). For specific requirements on reporting, please go to http://www.ed.gov/fund/grant/apply/appforms/appforms.html.

4. Performance Measures: Under the Government Performance and Results Act of 1993, the Department has established a set of performance measures, including long-term measures, that are designed to yield information on various aspects of the effectiveness and quality of the Training and Information for Parents of Children with Disabilities program. The measures focus on: The extent to which projects provide high-quality materials, the relevance of project products and services to educational and early intervention policy and practice, and the usefulness of products and services to improve educational and early intervention policy and practice.

Grantees will be required to provide information related to these measures.

Grantees also will be required to report information on their projects' performance in annual reports to the Department (34 CFR 75.590).

VII. Agency Contact

For Further Information Contact:

See chart in the Award Information section in this notice for the name, room number, and telephone number of the contact person for each competition. You can write to the contact person at the following address: U.S. Department of Education, 400 Maryland Avenue, SW., Potomac Center Plaza (PCP), Washington, DC 20202-2600.

If you use a TDD, call the FRS, toll-free, at 1-800-877-8339.

VIII. Other Information

Alternative Format: Individuals with disabilities can obtain this document and a copy of the application package in an alternative format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll-free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 13, 2008.
Tracy R. Justesen,
Assistant Secretary for Special Education and Rehabilitative Services.

[FR Doc. E8-5497 Filed 3-18-08; 8:45 am]

BILLING CODE 4000-01-P